DEPARTMENT OF TRANSPORTATION

National Highway Traffic Safety Administration

[Docket No. NHTSA-2015-0103; Notice 1]

Michelin North America, Inc., Receipt of Petition for Decision of Inconsequential Noncompliance

AGENCY: National Highway Traffic Safety Administration (NHTSA), Department of Transportation (DOT).

ACTION: Receipt of petition.

SUMMARY: Michelin North America, Inc. (MNA), has determined that certain Michelin heavy truck tires do not fully comply with paragraphs S6.5(a) and (j) of Federal Motor Vehicle Safety Standard (FMVSS) No. 119, New Pneumatic Tires for Motor Vehicles With a GVWR of More than 4,536 kilograms (10,000 pounds) and Motorcycles. MNA has filed an appropriate report dated September 18, 2015, pursuant to 49 CFR part 573, Defect and Noncompliance Responsibility and Reports.

DATES: The closing date for comments on the petition is December 21, 2015.

ADDRESSES: Interested persons are invited to submit written data, views, and arguments on this petition. Comments must refer to the docket and notice number cited at the beginning of this notice and submitted by any of the following methods:

• Mail: Send comments by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: Logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated above will be filed and will be considered. All comments and supporting materials received after the closing date will also be filed and will be considered to the extent possible. When the petition is granted or denied, notice of the decision will be published in the Federal Register pursuant to the authority indicated below.

SUPPLEMENTARY INFORMATION:

I. Overview: Pursuant to 49 U.S.C. 30118(d) and 30120(h) (see implementing rule at 49 CFR part 556), MNA submitted a petition for an exemption from the notification and remedy requirements of 49 U.S.C. Chapter 301 on the basis that this noncompliance is inconsequential to motor vehicle safety.

This notice of receipt of MNA's petition is published under 49 U.S.C. 30118 and 30120 and does not represent any agency decision or other exercise of judgment concerning the merits of the petition.

II. Tires Involved: Affected are approximately 247 Michelin X Works XZY size 315/80R22.5 156/150K heavy truck tires that were manufactured between January 1, 2011 and July 31, 2015.

III. Noncompliance: MNA describes the noncompliance's as the inadvertent omission from the tires sidewall of the letter marking that designates the tire load range as required by paragraph S6.5(j) and the symbol “DOT” confirming certification as required by paragraph S6.5(a) of FMVSS No. 119.

IV. Rule Text: Paragraph S6.5 of FMVSS No. 119 requires in pertinent part:

S6.5 Tire Markings. Except as specified in this paragraph, each tire shall be marked on each sidewall with the information specified in paragraphs (a) through (j) of this section. . . .

(a) The symbol DOT, which shall constitute a certification that the tire conforms to applicable Federal Motor Vehicle Safety standards. This symbol may be marked on only one sidewall. . . .

(j) The letter designating the tire Load Range.

V. Summary of MNA's Petition: MNA believes that while it did not intend to release the subject tires for sale in the U.S. market, and therefore did not mark the tires accordingly, it believes that the subject noncompliance is inconsequential to motor vehicle safety for the following reasons:

(1) Maximum Load Rating: The subject tires are marked on both sidewalls with the European Tyre and Rim Technical Organization (ETRTO) published load capacities in pounds and kilograms for single and dual application in the format specified by FMVSS No. 119. MNA believes that this marking provides sufficient information to ensure the proper application of the tire.

(2) Load Index: The subject tire is marked with the [International Organization for Standardization] ISO load indices for single and dual application as specified by the ETRTO standard. MNA believes that ISO load indices are widely recognized within the industry and thus provide additional information to ensure the proper application of the tire.

(3) Other Markings: All other markings specified by FMVSS No. 119 are present on the tire including the full tire identification number (TIN).

(4) Performance: The subject tire meets all performance requirements of FMVSS No. 119. MNA believes that the subject noncompliances have no impact on the load carrying capacity of the tire on a motor vehicle, nor on motor vehicle safety itself.

(5) Vehicle Fitment: Paragraph S6 of FMVSS No. 119 requires that the marking should contain load capacity values in pounds and kilograms as well as a letter designating the load range. This information is used by vehicle owners to ensure adequate tire load capacity for the specific vehicle configuration. Although the subject tire lacks the letter designating the load range, MNA believes that the ETRTO standard load capacity values and ISO load indices for single and dual application which are widely recognized in the industry are present to ensure proper application.

MNA has additionally informed NHTSA that it has corrected its internal systems error to prevent similar tires from being released for sale in the U.S. market in the future.

In summation, MNA believes that the described noncompliances of the subject tires is inconsequential to motor vehicle safety, and that its petition, to exempt MNA from providing recall notification of noncompliances as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject tires that MNA no longer controlled at the time it determined that the noncompliance existed. However, any decision on this petition does not relieve equipment distributors and dealers of the prohibitions on the sale, offer for sale, or introduction or delivery for introduction into interstate commerce of the noncompliant tires under their control after MNA notified them that the subject noncompliance existed.

Authority: (49 U.S.C. 30118, 30120: Delegations of authority at 49 CFR 1.95 and 501.8)

Jeffrey M. Giuseppe,
Director, Office of Vehicle Safety Compliance.

[FR Doc. 2015-29473 Filed 11-18-15; 8:45 am]

BILLING CODE 4910-59-P